DEPARTMENT OF COMMERCE

National Oceanic and Atmospheric Administration

[Docket No. 030602141-6075-36; I.D. 061505A]

RIN 0648-ZB55

Availability of Grant Funds for Fiscal Year 2006

AGENCY: National Oceanic and Atmospheric Administration (NOAA), Department of Commerce (DOC).

ACTION: Notice; availability of grant funds.

SUMMARY: The National Oceanic and Atmospheric Administration (NOAA) has published two omnibus notices announcing an availability of grant funds for Fiscal Year 2006. The purpose of those notices was to provide the general public with a consolidated source of program and application information related to NOAA's competitive grant offerings. In those announcements, it was noted that additional program initiatives unanticipated at the time of the publication of this notice may be announced later in the year. This is such an announcement, for grant funding opportunities now being offered by programs within the NOAA Office of Oceanic and Atmospheric Research. Applicants must comply with all requirements contained in the full funding opportunity announcements for each project competition in this announcement.

DATES: Applications must be received by the date and time indicated under each program listing in the APPLICATION AND SUBMISSION INFORMATION section of the Full Announcement for each program.

ADDRESSES: Applications must be submitted to the addresses listed in the APPLICATION AND SUBMISSION INFORMATION section of the Full Announcement for each program. This Federal Register notice may be found at the Grants.gov Web site, http://www.grants.gov, and the NOAA Web site at http://www.ago.noaa.gov/grants/funding.shtml.

FOR FURTHER INFORMATION CONTACT: For a copy of the full funding opportunity announcement and/or application kit, access it at Grants.gov, via NOAA's Web site, or by contacting the person listed as the information contact under each program.

SUPPLEMENTARY INFORMATION: NOAA published its first omnibus notice announcing the availability of grant funds for both projects and fellowships/ scholarships/internships for Fiscal Year 2006 in the Federal Register on June 30, 2005 (70 FR 37766), and its second on December 20, 2005 (70 FR 76253). The evaluation criteria and selection procedures contained in those notices are applicable to this solicitation. For a copy of these omnibus notices, please go to: http://www.Grants.gov or http://www.ago.noaa.gov/grants/funding.shtml. Applicants must comply with all requirements contained in the full funding opportunity announcements for each project competition in this announcement. This omnibus notice describes funding opportunities for the following NOAA discretionary grant programs:

List of NOAA Project Competitions

Detailed information is found elsewhere in this notice.

Oceanic and Atmospheric Research

1. Aquatic Invasive Species Program/National Sea Grant College Program

2. National Sea Grant College Program/Climate Program Office

Electronic Access

As has been the case since October 1, 2004, applicants can access, download and submit electronic grant applications for NOAA Programs through the Grants.gov Web site at http://www.Grants.gov. These announcements will also be available at the NOAA Web site or by contacting the program official identified below. However, applicants without Internet access may still submit hard copies of their applications. The closing dates for applications filed through Grants.gov are the same as for the paper submissions noted in this announcement. For applicants filing through Grants.gov, NOAA strongly recommends that you do not wait until the application deadline date to begin the application process. Registration may take up to 10 business days.

Getting started with Grants.gov is easy. Go to http://www.Grants.gov. There are two key features on the site: Find Grant Opportunities and Apply for Grants. Everything else on the site is designed to support these two features and your use of them. While you can begin searching for grant opportunities for which you would like to apply immediately, it is recommended that you complete the remaining Get Started steps sooner rather than later, so that when you find an opportunity for which you would like to apply, you are ready to go.

Get Started Step 1B Find Grant Opportunity for Which You Would Like To Apply

Start your search for Federal government-wide grant opportunities and register to receive automatic e-mail notifications of new grant opportunities or any modifications to grant opportunities as they are posted to the site by clicking the Find Grant Opportunities tab at the top of the page.

Get Started Step 2B Register With Central Contractor Registry (CCR)

Your organization will also need to be registered with Central Contractor Registry. You can register with them online. This will take about 30 minutes. You should receive your CCR registration within three business days. Important: You must have a DUNS number from Dun & Bradstreet before you register with CCR. Many organizations already have a DUNS number. To determine if your organization already has a DUNS number or to obtain a DUNS number, contact Dun & Bradstreet at 1-866-705-5711. This will take about 10 minutes and is free of charge. Be sure to complete the Marketing Partner ID (MPIN) and Electronic Business Primary Point of Contact fields during the CCR registration process. These are mandatory fields that are required when submitting grant applications through Grants.gov.

Get Started Step 3B Register With the Credential Provider

You must register with a Credential Provider to receive a username and password. This will be required to securely submit your grant application.

Get Started Step 4B Register With Grants.gov

The final step in the Get Started process is to register with Grants.gov. This will be required to submit grant applications on behalf of your organization. After you have completed the registration process, you will receive e-mail notification confirming that you are able to submit applications through Grants.gov.

Get Started Step 5B Log on to Grants.gov

After you have registered with Grants.gov, you can log on to Grants.gov to verify if you have registered successfully, to check application status, and to update information in your applicant profile, such as your name, telephone number, e-mail address, and title. In the future, you will have the ability to determine if you are authorized to submit applications through Grants.gov on behalf of your organization.

NOAA Project Competitions

Oceanic and Atmospheric Research (OAR)

1. National Sea Grant College Program/Aquatic Invasive Species Program

Summary Description: The National Sea Grant College Program (NSGCP) was established by Congress to promote responsible use and conservation of the nation's marine and Great Lakes resources, including to conduct research and outreach to protect these resources from the threats of invasive species. The mission of the NOAA Aquatic Invasive Species Program (AISP) is to protect resources under NOAA's stewardship responsibilities from invasive species threats, and it also emphasizes the use of research and outreach to confront these threats.

To accomplish these missions, the AISP and the NSGCP are soliciting applications for aquatic invasive species research and outreach projects for specific activities listed in the PROGRAM GUIDANCE section in the Full Announcement. They include (1) human health-related outreach activities related to the invasive species Pterois volitans (lionfish) in the southeast United States, (2) research related to control of invasive Carcinus maenus (green crab), and (3) research and outreach related to the control of several species of tunicates invading the northern east and west coasts of North America and related fishing grounds.

Funding Availability: It is expected that about $50,000 will be available from the NSGCP for these projects in FY 2006, and about $200,000 will be available from the AISP.

Funding Opportunity Number: OAR-SG-2006-2000586.

Statutory Authority: 33 U.S.C. 1121-1131.

CFDA: 11.417, Sea Grant Support.

Application Deadline: Proposals must be received no later than 5 p.m. Eastern Standard Time, April 13, 2006.

Address For Submitting Proposal(s): Proposals should be submitted through Grants.Gov, following the directions in ELECTRONIC ACCESS, above. Proposals from those that do not have access to Internet should be sent to: Geraldine Taylor, NOAA R/SG; 1315 East-West Highway, Bldg SSMC 3, Room 11828, Silver Spring, MD 20910-3283, tel. 301-713-2435.

Information Contact: Dorn Carlson, NOAA R/SG, 1315 East-West Highway, Silver Spring, MD 20910-3283, e-mail Invasive.Species@noaa.gov.

Eligibility: Proposals may be submitted by individuals, institutions of higher education, nonprofit organizations, for-profit organizations, Federal, State, local and Indian tribal governments, foreign governments, organizations under the jurisdiction of foreign governments, and international organizations. Federal applicants are subject to limitations described in the Full Announcement in the ELIGIBILITY INFORMATION section.

Cost Sharing Requirements: There is no matching fund requirement for AISP funds for this competition; however, to be eligible for the NSGCP funds a match of 50% of the requested Federal funds (direct and indirect costs) is needed. Additionally, the presence of matching funds can increase the likelihood of an application being selected. See Section III.B. in the Full Announcement for more information on matching funds.

Intergovernmental Review: Applications under this program are not subject to Executive Order 12372, “Intergovernmental Review of Federal Programs.”

2. National Sea Grant College Program/Climate Program Office

Summary Description: The National Oceanic and Atmospheric Administration's National Sea Grant College Program (NSGCP) in conjunction with the Climate Program Office (CPO) Regional Integrated Sciences and Assessments (RISA) Program are soliciting applications for a Regional Climate Extension Specialist with specific objectives and priorities listed in the PROGRAM GUIDANCE section in the Full Announcement. The Regional Climate Extension Specialist will lead Sea Grant's effort in climate application issues at the regional level, coordinate with individuals within the regional Sea Grant network on specific climate issues, and promote the growth and development of Sea Grant leadership in climate issues. The Regional Climate Extension Specialist will serve as an integral bridge between RISA's climate impacts research and the Sea Grant extension network that reaches coastal communities.

Funding Availability: Amount of support anticipated is $100,000 in federal funds that will be available for the Regional Climate Extension Specialist in FY 2006. The NSGCP and CPO will contribute equal amounts of funding for this program ($50,000 each). There is a matching funds requirement.

Funding Opportunity Number: OA-SG-2006-2000586.

Statutory Authority: 33 U.S.C. 1121-1131.

CFDA: 11.417, Sea Grant Support.

Application Deadline: Proposals must be received no later than 5 p.m. eastern standard time, May 1, 2006.

Address For Submitting Applications: Proposals should be submitted through Grants.Gov, following the directions in ELECTRONIC ACCESS, above. Proposals from those that do not have access to Internet should be sent to: Geraldine Taylor, NOAA R/SG; 1315 East-West Highway, Bldg SSMC 3, Room 11828, Silver Spring, MD 20910-3283, tel. 301-713-2435.

Information Contact: Jim Murray, NOAA R/SG, 1315 East West Highway, Silver Spring, MD 20910-3283, e-mail jim.d.murray@noaa.gov or Hannah Campbell, NOAA/CPO, 1100 Wayne Ave, suite 1225, Silver Spring, MD 20910.

Eligibility: Proposals may be submitted by institutions of higher education, nonprofit organizations, and State governments.

Cost Sharing Requirements: Matching funds equal to at least 50 percent of the Federal funding given by Sea Grant only must be provided. For funding provided by the Sea Grant Program, by law the matching funds must be from a non-Federal source and cannot be waived.

Intergovernmental Review: Applications under this program are not subject to Executive Order 12372, Intergovernmental Review of Federal Programs.

Limitation of Liability

Funding for programs listed in this notice is contingent upon the availability of Fiscal Year 2006 appropriations. In no event will NOAA or the Department of Commerce be responsible for application preparation costs if these programs fail to receive funding or are cancelled because of other agency priorities. Publication of this announcement does not oblige NOAA to award any specific project or to obligate any available funds.

Universal Identifier

Applicants should be aware that, they are required to provide a Dun and Bradstreet Data Universal Numbering System (DUNS) number during the application process. See the October 30, 2002 Federal Register, (69 FR 66177) for additional information. Organizations can receive a DUNS number at no cost by calling the dedicated toll-free DUNS Number request line at 1-866-705-5711 or via the Internet http:// www.dunandbradstreet.com.

National Environmental Policy Act (NEPA)

NOAA must analyze the potential environmental impacts, as required by the National Environmental Policy Act (NEPA), for applicant projects or proposals that are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toclceq.htm.

Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial of not selecting an application. In some cases if additional information is required after an application is selected, funds can be withheld by the Grants Officer under a special award condition requiring the recipient to submit additional environmental compliance information sufficient to enable NOAA to make an assessment on any impacts that a project may have on the environment.

Pre-Award Notification Requirements for Grants and Cooperative Agreements

The Department of Commerce Pre-Award Notification Requirements for Grants and Cooperative Agreements contained in the Federal Register notice of December 30, 2004 (69 FR 78389), are applicable to this solicitation.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)).

Because notice and opportunity for comment are not required pursuant to 5 U.S.C. 553 or any other law, the analytical requirements of the Regulatory Flexibility Act (5 U.S.C. 601 et seq.) are inapplicable. Therefore, a regulatory flexibility analysis has not been prepared.

Dated: March 22, 2006.
Mark E. Brown,
Chief Financial Officer, Office of Oceanic and Atmospheric Research, National Oceanic and Atmospheric Administration.

[FR Doc. E6-4378 Filed 3-24-06; 8:45 am]

BILLING CODE 3510-12-P